ENVIRONMENTAL PROTECTION AGENCY

[EPA-HQ-OW-2009-0297; FRL-8961-8]

RIN 2040-AF08

Drinking Water: Perchlorate Supplemental Request for Comments

AGENCY: Environmental Protection Agency (EPA).

ACTION: Reopening of public comment period.

SUMMARY: In an August 19, 2009, Federal Register notice, EPA announced that it was seeking comments on additional approaches to analyzing data related to the Agency's preliminary regulatory determination for perchlorate. The additional comments are sought in an effort to ensure consideration of all the potential options for evaluating whether there is a meaningful opportunity for human health risk reduction of perchlorate through a national primary drinking water rule. In response to requests from several stakeholders, this action reopens the public comment period for an additional 15 days.

DATES: EPA must receive your comments on or before October 8, 2009.

ADDRESSES: Submit your comments, identified by Docket ID No. EPA-HQ-OW-2009-0297, by one of the following methods:

• http://www.regulations.gov: Follow the on-line instructions for submitting comments.

• Mail: Water Docket, Environmental Protection Agency, Mailcode: 2822T, 1200 Pennsylvania Ave., NW., Washington, DC 20460.

• Hand Delivery: Water Docket, EPA Docket Center (EPA/DC) EPA West, Room 3334, 1301 Constitution Ave., NW., Washington, DC. Such deliveries are only accepted during the Docket's normal hours of operation, and special arrangements should be made for deliveries of boxed information.

Instructions: Direct your comments to Docket ID No. EPA-HQ-OW-2009-0297. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Eric Burneson, Office of Ground Water and Drinking Water, Standards and Risk Management Division, at (202) 564-5250 or e-mail burneson.eric@epa.gov. For general information contact the EPA Safe Drinking Water Hotline at (800) 426-4791 or e-mail: hotline-sdwa@epa.gov.

SUPPLEMENTARY INFORMATION:

Background

The statutory and regulatory background is described in detail in the October 10, 2008, Federal Register notice of a preliminary regulatory determination for perchlorate (73 FR 60262) and summarized in the August 19, 2009, Federal Register notice of supplemental request for comments (74 FR 41883). Briefly, the Safe Drinking Water Act (SDWA) section 1412, as amended in 1996, requires EPA to make a determination whether to regulate at least 5 contaminants from its contaminant candidate list (CCL) every 5 years. To regulate a contaminant in drinking water, EPA must determine that it meets three criteria: (1) The contaminant may have an adverse effect on human health, (2) the contaminant is known to occur or there is a substantial likelihood that the contaminant will occur in public water systems with a frequency and at levels of public health concern, and (3) regulation of such contaminant presents a meaningful opportunity for health risk reduction for persons served by public water systems.

On October 10, 2008, EPA published a preliminary regulatory determination for perchlorate, requesting public comment on its determination that perchlorate did not meet the second and third criteria for regulation. On November 12, 2008, EPA published a Federal Register Notice (73 FR 66895) reopening the comment period for the preliminary regulatory determination for an additional 15 days. The Agency received 32,795 comment letters on the preliminary regulatory determination for perchlorate. These comments and other supporting materials for the October 10, 2008, notice are available electronically at http://www.regulations.gov (Docket ID No. EPA-HQ-OW-2008-0692).

On August 19, 2009, EPA published a Federal Register notice of supplemental request for comment on a broader range of alternatives for interpreting the available data on: the level of health concern, the frequency of occurrence of perchlorate in drinking water, and the opportunity for health risk reduction through a national primary drinking water standard. These alternative interpretations may impact the Agency's final regulatory determination for perchlorate. The supporting materials for the August 19, 2009, supplemental notice are available electronically at http://www.regulations.gov (Docket ID No. EPA-HQ-OW-2009-0297).

Next Steps

Several stakeholders have requested an extension to the September 18, 2009, comment deadline specified in the August 19, 2009, supplemental notice in order to evaluate EPA's alternative analyses and prepare comments. This action reopens the comment period for an additional 15 days.

The Agency will consider the information and comments submitted in response to the August 19, 2009, supplemental notice until October 8, 2009. EPA will also consider the comments received on the previous Federal Register Notices pertaining to the perchlorate regulatory determination and all peer review comments before issuing a final regulatory determination for perchlorate. EPA intends to issue a regulatory determination as expeditiously as possible following consideration of the comments and information received by the Agency.

Dated: September 17, 2009.
Michael H. Shapiro,
Acting Assistant Administrator, Office of Water.

[FR Doc. E9-22927 Filed 9-22-09; 8:45 am]

BILLING CODE 6560-50-P